DEPARTMENT OF HEALTH AND HUMAN SERVICES

Administration for Children and Families

Submission for OMB Review; Comment Request

Title: Evaluation of the Child Welfare Capacity Building Collaborative: Part Two.

OMB No.: New Collection.

Description: This new data collection is the second part of a larger data collection effort being conducted for the evaluation of the Child Welfare Capacity Building Collaborative. The first group of instruments has already been submitted for this evaluation. This notice details the second group of instruments that will be used for data collection as part of this evaluation. The Evaluation of the Child Welfare Capacity Building Collaborative is sponsored by the Children's Bureau, Administration for Children and Families of the U.S. Department of Health and Human Services. The Capacity Building Collaborative includes three centers (Center for States, Center for Tribes, Center for Courts) funded by the Children's Bureau to provide national child welfare expertise and evidence-informed training and technical assistance services to State, Tribal and Territorial public child welfare agencies and Court Improvement Programs (CIP). The Centers offer a wide array of services including, but not limited to: Web-based content and resources, product development and dissemination, self-directed and group-based training, virtual learning and peer networking events, and tailored consultation and coaching. During the project period the Centers' services will be evaluated by both Center-specific evaluations and a Cross-Center Evaluation. The Center-specific evaluations are designed to collect data on Center-specific processes and outcomes. The Cross-Center Evaluation is designed to respond to a set of cross-cutting evaluation questions posed by the Children's Bureau. The Cross-Center Evaluation will examine: The extent to which key partners across and within the Centers are collaborating; whether the capacity building service interventions offered by the Centers are evaluable; the degree to which Centers follow common protocols; whether service interventions are delivered or performed as designed; how satisfied recipients are with the services received; how effective the service interventions were; which service approaches were most effective and under what conditions; and the costs of services.

The Cross-Center Evaluation is utilizing a longitudinal mixed methods approach to evaluate the Centers' services as they develop and mature over the course of the study period. Multiple data collection strategies will be used to efficiently capture quantitative and qualitative data to enable analyses that address each evaluation question. Proposed Cross-Center Evaluation data sources for this effort include: (1) A capacity survey to capture perceived changes in organizational capacity after receiving Center services; (2) a tailored services satisfaction survey administered in conjunction with the capacity survey to capture satisfaction with tailored services; (3) a foundational assessment to capture contextual data regarding the organizational health and functioning of child welfare agencies and courts; (4) a follow-up survey that will examine short-term and intermediate outcomes among CIPs that receive different levels of tailored services following continuous quality improvement (CQI) workshops; and (5) a key informant survey and interview to examine how capacity building services are incorporated into state and tribal activities to support implementation of Public Law 113-183. Center-specific data sources for this effort include (1) registration forms such as the webinar and learning management system (CapLEARN) registration forms and (2) service-specific feedback forms and interviews, such as the Center for States Tailored Services interviews and the Center for Courts Universal and Constituency Services survey.

Respondents: Respondents of data collection instruments will include (1) child welfare agency staff and stakeholders who directly receive services that have been tailored to the needs of their jurisdiction and (2) CIP coordinators, CIP Directors, and other project staff. The proposed data collection will span three years.

Annual Burden Estimates
Instrument | Annual number of respondents | Number of responses per respondent | Average burden hours per response | Total annual burden hours
Capacity Survey | 462 | 1 | .3 | 138.60
Tailored Services Satisfaction Survey | 462 | 1 | .083 | 38.35
Foundational Assessment Survey | 277 | 1 | .1 | 27.7
CQI Workshop Follow-Up Survey | 48 | 2 | .12 | 11.52
Public Law 113-183 Key Informant Survey | 52 | 1 | .26 | 13.52
Public Law 113-183 Key Informant Interview | 5 | 1 | 1 | 5
Center for Courts: Universal and Constituency Services | 104 | 1 | .41 | 42.64
Webinar Registration | 4650 | 1 | .03 | 139.5
Center for States: Tailored Services Interviews | 60 | 1 | 1 | 60
Center for States: Assessment and Work Planning Survey | 150 | 1 | .25 | 37.5
CapLEARN Registration | 600 | 1 | .084 | 50.4

Estimated Total Annual Burden Hours: 564.73.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Robert Sargis,
Reports Clearance Officer.

[FR Doc. 2016-23058 Filed 9-23-16; 8:45 am]

BILLING CODE P